DEPARTMENT OF JUSTICE

Bureau of Alcohol, Tobacco, Firearms and Explosives

[OMB 1140-0050]

Agency Information Collection Activities; Proposed eCollection of eComments Requested; Revision of a Currently Approved Collection; Identification Markings Placed on Firearms

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) OMB 1140-0050 (Identification Markings Placed on Firearms) is being revised due to an increase in the number of respondents, although there is a reduction in the total responses and total burden hours since the last renewal in 2018. The proposed information collection (IC) is also being published to obtain comments from the public and affected agencies.

DATES: Comments are encouraged and will be accepted for 60 days until October 18, 2021.

FOR FURTHER INFORMATION CONTACT: If you have additional comments regarding the estimated public burden or associated response time, suggestions, or need a copy of the proposed information collection instrument with instructions, or additional information, please contact: Jennifer Scott, Firearms Industry Programs Branch, either by mail at 99 New York Ave. NE, Washington, DC 20226 by email at fipb-informationcollection@atf.gov, or by telephone at 202-648-7190.

SUPPLEMENTARY INFORMATION: Written comments and suggestions from the public and affected agencies concerning the proposed collection of information are encouraged. Comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Identification Markings Placed on Firearms.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business or other for-profit.

Other (if applicable): None.

Abstract: This information collection requires licensed firearms manufacturers and importers to legibly identify each firearm by engraving, casting, stamping (impressing), or otherwise conspicuously placing an individual serial number on the frame or receiver of a firearm. The required firearms identification information supports Federal, State, and local law enforcement officials in crime fighting by facilitating the tracing of firearms used in criminal activities.

5. An estimate of the total number of respondents and the amount of time estimated for an average respondent to respond: An estimated 17,930 respondents will use this collection annually, and it will take each respondent approximately 1 minute to complete each response.

6. An estimate of the total public burden (in hours) associated with the collection: The estimated annual public burden associated with this collection is 66,446 hours, which is equal to 17,930 (total respondents) * 222.3495 (total responses per respondent) * 0.0166667 (1 minute or time taken for each response).

7. An Explanation of the Change in Estimates: Although there is an increase in the total respondents from 13,868 in 2018, to 17,930 in 2021, there is a reduction in both the total responses and burden hours from 5,137,771 to 3,986,663 and 85,630 to 66,446 hours respectively, due to fewer imported firearms. Consequently, the total cost burden for this collection also reduced from $4,726,749 in 2018, to $3,667,730 in 2021.

If additional information is required contact: Melody Braswell, Department Clearance Officer, United States Department of Justice, Justice Management Division, Policy and Planning Staff, Two Constitution Square, 145 N Street NE, Mail Stop 3E.405A, Washington, DC 20530.

Dated: August 13, 2021.
Melody Braswell,
Department Clearance Officer for PRA, U.S. Department of Justice.

[FR Doc. 2021-17727 Filed 8-17-21; 8:45 am]

BILLING CODE 4410-FY-P